DEPARTMENT OF HEALTH AND HUMAN SERVICES

National Institutes of Health

Office of the Director, National Institutes of Health; Notice of Meeting.

Pursuant to section 10(a) of the Federal Advisory Committee Act, as amended (5 U.S.C. Appendix 2), notice is hereby given of a meeting of the Recombinant DNA Advisory Committee.

The meeting will be open to the public, with attendance limited to space available. Individuals who plan to attend and need special assistance, such as sign language interpretation or other reasonable accommodations, should inform the contact person listed below in advance of the meeting. The meeting will be held as a telephone conference call with the members. A speaker phone installed in the conference room will enable members of the public in attendance to listen to the discussion and address the RAC.

Name of Committee: Recombinant DNA Advisory Committee (RAC).

Date: November 1, 2001.

Time: 12-1 p.m.

Agenda: To discuss and vote on a recommendation to the Director, NIH, regarding final action to amend Section IV-C-2 of the NIH Guidelines for Research Involving Recombinant DNA Molecules to change the prescribed number and expertise of RAC members and establish the charter of the RAC as the controlling document for the membership and procedures of that committee. The proposed action was published in the Federal Register on August 24, 2001 (66 FR 44638).

Place: National Institutes of Health, 9000 Rockville Pike, Building 45, Conference Room C1/C2, Bethesda, Maryland 20892.

Contact: Ms. Laurie Harris, RAC Program Assistant, Office of Biotechnology Activities, Rockledge 1, Room 750, Bethesda MD, 20892, (301) 496-9839.

Information is also available on the Institute's/Center's home page: www4.od.nih.gov/oba/, where an agenda and any additional information for the meeting will be posted when available. OMB's “Mandatory Information Requirements for Federal Assistance Program Announcements” (45 FR 39592, June 11, 1980) requires a statement concerning the official government programs contained in the Catalog of Federal Domestic Assistance. Normally NIH lists in its announcements the number and title of affected individual programs for the guidance of the public. Because the guidance in this notice covers virtually every NIH and Federal research program in which DNA recombinant molecules techniques could be used, it has been determined not to be cost effective or in the public interest to attempt to list these programs. Such a list would likely require several additional pages. In addition, NIH could not be certain that every Federal program would be included as many Federal agencies, as well as private organizations, both national and international, have elected to follow the NIH Guidelines, In lieu of the individual program listing, NIH invites readers to direct questions to the information address above about whether individual programs listed in the Catalog of Federal Domestic Assistance are affected.

(Catalogue of Federal Domestic Assistance Program Nos. 93.14, Instramural Research Training Award; 93.187, Undergraduate Scholarship Program for Individuals from Disadvantaged Backgrounds; 93.22, Clinical Research Loan Repayment Program for Individuals from Disadvantaged Backgrounds; 93.232, Loan Repayment Program for Research Generally; 93.39, Academic Research Enhancement Award; 93.936, NIH Acquired Immunodeficiency Syndrome Research Loan Repayment Program, National Institutes of Health, HHS)

Dated: October 12, 2001.
LaVerne Y. Stringfield,
Director, Office of Federal Advisory Committee Policy.

[FR Doc. 01-26388 Filed 10-18-01; 8:45 am]

BILLING CODE 4140-01-M